DEPARTMENT OF HEALTH AND HUMAN SERVICES

Administration for Children and Families

Submission for OMB Review; Survey of Staff Recruitment, Training, and Professional Development in Early Head Start (New Collection)

AGENCY: Office of Planning, Research, and Evaluation, Administration for Children and Families, Department of Health and Human Services.

ACTION: Request for public comments.

SUMMARY: The Administration for Children & Families (ACF) at the U.S. Department of Health and Human Services (HHS) seeks approval to conduct a nationally representative survey of Early Head Start (EHS) grant recipients regarding their recruitment, hiring, and professional development practices.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION: Description: The Survey of Staff Recruitment, Training, and Professional Development in EHS is a nationally representative survey that will describe how EHS programs ensure staff have the qualifications and competencies to deliver high-quality services to infants, toddlers, and their families. The information collection will examine how EHS grant recipients search for and hire qualified teaching and home visiting staff and support staff in their ongoing professional development and career advancement. The information collection aims to identify successful strategies or approaches as well as challenges faced as EHS programs search for, hire, and train teaching and home visiting staff. Findings are intended to inform program planning, training and technical assistance, and research.

Respondents: Early Head Start program directors or their designee.

Annual Burden Estimates
Instrument | Number of respondents (total over request period) | Number of responses per respondent (total over request period) | Avg. burden per response (in hours) | Total/annual burden (in hours)
Survey instrument for center-based programs only | 232 | 1 | .5 | 116
Survey instrument for home-based programs only | 56 | 1 | .5 | 28
Survey instrument for programs with center-based and home-based options | 312 | 1 | .5 | 156

Estimated Total Annual Burden Hours: 300.

Authority: Head Start Act Section 640 [42 U.S.C. 9835].

Mary B. Jones,
ACF/OPRE Certifying Officer.

[FR Doc. 2024-02061 Filed 2-1-24; 8:45 am]

BILLING CODE 4184-22-P